DEPARTMENT OF ENERGY

Federal Energy Regulatory Commission

[Docket No. ER01-1807-001]

Carolina Power & Light Company and Florida Power Corporation; Notice of Filing

May 1, 2001.

Take notice that on April 26, 2001, Carolina Power & Light Company (CP&L) and Florida Power Corporation (FPC), tendered for filing revision to the modification of the Open Access Transmission Tariff (OATT) of CP&L and FPC that was tendered for filing April 16, 2001 in this docket. The modification consists of a complete copy of the OATT in the format required by Order No. 614. The modification is being made to comply with the requirement of Order No. 614 that when a tariff or rate schedule is revised, the entire tariff or rate schedule must be refiled in the format required by that order. The filing also incorporates amendments to the OATTs of CP&L and FPC that the Commission accepted for filing prior to the consummation of their merger.

Copies of the filing were served upon the public utility's jurisdictional customers, North Carolina Utilities Commission and South Carolina Public Service Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before May 17, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-11351 Filed 5-4-01; 8:45 am]

BILLING CODE 6717-01-M